DEPARTMENT OF DEFENSE

Office of the Secretary

Submission for OMB Review; Comment Request

ACTION: Notice. The Department of Defense has submitted to OMB for clearance, the following proposal for collection of information under the provisions of the Paperwork Reduction Act (44 U.S.C. Chapter 35).

Title, Form Number, and OMB Number: Intercontinental Ballistic Missile Hardened Intersite Cable System Right-of-Way Landowner/Tenant Questionnaire; AF Form 3951; OMB Number 0701-0141.

Type of Request: Extension.

Number of Respondents: 4,000.

Responses Per Respondent: 1.

Annual Responses: 4,000.

Average Burden Per Response: 15 minutes.

Annual Burden Hours: 1,000.

Needs and Uses: The information collection requirement is used to report changes in ownership/lease information, conditions of missile cable route and associated appurtenances, and projected building/exacavation projects. The information collected is used to ensure system integrity and to maintain a close contact public relations program with involved personnel and agencies. Respondents are landowners and tenants. This form collects updated landowner/tenant information as well as data on local property conditions that could adversely affect the Hardened Intersite Cable System (HICS).

Affected Public: Individuals or Households; Farms; State, Local or Tribal Government.

Frequency: Biennially.

Respondents's Obligation: Voluntary.

OMB Desk Officer: Mr. Edward C. Springer.

Written comments and recommendations on the proposed information collection should be sent to Mr. Springer at the Office of Management and Budget, Desk Officer for DoD, Room 10326, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: April 26, 2001.
Patricia L. Toppings,
Alternate OSD Federal Register Liaison Officer, Department of Defense.

[FR Doc. 01-10896 Filed 5-1-01; 8:45 am]

BILLING CODE 5001-08-M